DEPARTMENT OF HEALTH AND HUMAN SERVICES

Administration for Children and Families

Proposed Information Collection Activity; Administration for Native Americans Project Outcome Assessment Survey (Office of Management and Budget #: 0970-0379)

AGENCY: Administration for Native Americans, Administration for Children and Families, U.S. Department of Health and Human Services.

ACTION: Request for public comments.

SUMMARY: The Administration for Children and Families (ACF) is requesting a 3-year extension of the Administration for Native Americans Project Outcome Assessment Survey (OMB #: 0970-0379, expiration 6/30/2025). The survey was revised based on a review by the Administration for Native Americans (ANA) and feedback from grantees, which identified some data elements that could be eliminated and areas that could be clarified.

DATES: Comments due December 30, 2024. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The information collected by the Project Outcome Assessment Survey is needed for two main reasons—(1) to collect crucial information required to report on ANA's established Government Performance and Results Act (GPRA) measures and (2) to properly abide by ANA's congressionally mandated statute (42 U.S.C. 2991 et seq.) found within the Native American Programs Act of 1974, as amended, which states that ANA will evaluate projects assisted through ANA grant dollars “including evaluations that describe and measure the impact of such projects, their effectiveness in achieving stated goals, their impact on related programs, and their structure and mechanisms for delivery of services.” The survey information is requested once at the end of a project grant period. The information collected with this survey will fulfill ANA's statutory requirement and will also serve as an important planning and performance tool for ANA.

There are minor revisions proposed to the survey to align with ANA's current requirements of grant recipients and eliminate duplicative data elements.

Respondents: Tribal Governments, Native American nonprofit organizations, and Tribal Colleges and Universities.

Annual Burden Estimates
Instrument | Number of respondents | Number of responses per respondent | Average burden hours per response | Annual burden hours
ANA Project Outcome Assessment Survey | 85 | 1 | 6 | 510

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 2992.

Mary C. Jones,
ACF/OPRE Certifying Officer.

[FR Doc. 2024-25139 Filed 10-29-24; 8:45 am]

BILLING CODE 4184-34-P